DEPARTMENT OF HEALTH AND HUMAN SERVICES

Agency for Healthcare Research and Quality (AHRQ)

Statement of Organization, Functions, and Delegations of Authority

Part E, Chapter E (Agency for Healthcare Research and Quality), of the Statement of Organization, Functions, and Delegations of Authority for the Department of Health and Human Services (61 FR 15955-58, April 10, 1996, most recently amended at 66 FR 7653 on January 24, 2001) is further amended as follows:

Under Section E-20. Functions:

A. Within the statement for the Division of Human Resource Management (EAA6):

1. Delete “and organization” in the first sentence;

2. Insert “and” before (3); and

3. Delete (4) and (5).

B. Delete the title and statement for the Division of Research Synthesis and Translation (EAF4); and

C. Delete the title and statement for the Division of User Liaison (EAF5) and replace with the following:

Division of User Liaison and Research Translation (EAF5). Facilitates the synthesis, translation, and dissemination of existing research findings, data and activities—particularly in research areas to which AHRQ has made substantial contributions—to selected AHRQ stakeholders. Specifically: (1) Coordinates and supports development of speeches and other presentations made by the AHRQ Director; (2) develops research syntheses focused on issues of importance to health systems administrators, large health care purchasers, State and local health policymakers, and others interested in health services research; (3) plans and conducts workshops and seminars to provide research findings and related information to State and local health policymakers to allow them to make better informed health care policy decisions; (4) drafts articles, briefing sheets, and other analytic documents that synthesize and analyze particular topics and issues in health services research or pertaining to agency activities; (5) coordinates and supports ongoing improvement and maintenance of the Agency's research database system; (6) maintains liaison with State and local government organizations, public policy organizations, and with the research community and receives and appropriately transmits information which may impact the Agency's research plan and priority setting process; and (7) develops and implements mechanisms to identify and contact potential users of research findings and related information.

These changes are effective upon date of signature.

Dated: February 12, 2001.
John M. Eisenberg,
Director.

[FR Doc. 01-4375 Filed 2-21-01; 8:45 am]

BILLING CODE 4160-90-M